DEPARTMENT OF DEFENSE

Department of the Army

Intent To Grant an Exclusive License for U.S. Army Owned Invention to Faraday Technology

AGENCY: Department of the Army, DoD.

ACTION: Notice.

SUMMARY: The Department of the Army announces that, unless there is an objection, after 15 days it contemplates granting an exclusive license to Faraday Technology Inc., 315 Huls Dr., Clayton, Ohio 45315, for co-developed invention(s) covering an apparatus and method for recovery of material generated during electrochemical material removal in acidic electrolytes, under SBIR Contract No W15QKN-12-C-0116, and referencing U.S. patent applications 62/114,278 filed February 10, 2015, 62/120,621 filed February 25, 2015, and 14/845,759 filed September 4, 2015. Any license granted shall comply with 35 U.S.C. 209 and 37 CFR part 404.

DATES: Objections must be received within 15 days of this notice.

ADDRESSES: Send written objections to Timothy Ryan, U.S. Army ARDEC, ATTN: RDAR-EIB (Bldg 93), Picatinny Arsenal, NJ 07806-5000.

FOR FURTHER INFORMATION CONTACT: Mr. Timothy Ryan, email: timothy.s.ryan.civ@mail.mil; (973) 724-7953.

SUPPLEMENTARY INFORMATION: None.

Brenda S. Bowen,
Army Federal Register Liaison Officer.

[FR Doc. 2016-03043 Filed 2-12-16; 8:45 am]

BILLING CODE 5001-03-P